DEPARTMENT OF ENERGY

10 CFR Part 431

[EERE-2017-BT-STD-0021]

RIN 1904-AD90

Energy Conservation Program: Energy Conservation Standards for Unfired Hot Water Storage Tanks

AGENCY: Office of Energy Efficiency and Renewable Energy, Department of Energy.

ACTION: Request for information; reopening of public comment period.

SUMMARY: On August 9, 2019, the U.S. Department of Energy (DOE) published a request for information (RFI) pertaining to the energy conservation standards for unfired hot water storage tanks. The RFI provided an opportunity for submitting written comments, data, and information by September 23, 2019. Prior to the end of the comment period for the RFI, DOE received a request from the Air-Conditioning, Heating and Refrigeration Institute (AHRI) on September 13, 2019 seeking additional time to analyze data, possibly conduct further testing, and prepare comments. In light of this request, DOE is reopening the comment period for an additional 30 days and announcing that decision in this document.

DATES: The comment period for the RFI, published on August 9, 2019 (84 FR 39220), which closed on September 23, 2019, is hereby reopened and extended. DOE will accept written comments, data, and information in response to the RFI submitted no later than October 30, 2019.

ADDRESSES: Interested persons are encouraged to submit comments using the Federal eRulemaking Portal at http://www.regulations.gov. Follow the instructions for submitting comments. Alternatively, interested persons may submit comments, identified by docket number EERE-2017-BT-STD-0021, by any of the following methods:

1. Federal eRulemaking Portal: http://www.regulations.gov. Follow the instructions for submitting comments.

2. Email: UnfiredCommercialWH2017STD0021@ee.doe.gov. Include the docket number EERE-2017-BT-STD-0021 in the subject line of the message.

3. Postal Mail: Appliance and Equipment Standards Program, U.S. Department of Energy, Building Technologies Office, Mailstop EE-5B, 1000 Independence Avenue SW, Washington, DC 20585-0121. If possible, please submit all items on a compact disc (“CD”), in which case it is not necessary to include printed copies.

4. Hand Delivery/Courier: Appliance and Equipment Standards Program, U.S. Department of Energy, Building Technologies Office, 950 L'Enfant Plaza, SW, 6th Floor, Washington, DC 20024. Telephone: (202) 287-1445. If possible, please submit all items on a CD, in which case it is not necessary to include printed copies.

No telefacsimilies (faxes) will be accepted.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2017-BT-STD-0021. The docket web page contains instructions on how to access all documents, including public comments, in the docket.

FOR FURTHER INFORMATION CONTACT: Ms. Catherine Rivest, U.S. Department of Energy, Office of Energy Efficiency and Renewable Energy, Building Technologies Office, EE-5B, 1000 Independence Avenue SW, Washington, DC 20585-0121. Telephone: (202) 586-7335. Email: ApplianceStandardsQuestions@ee.doe.gov.

Mr. Eric Stas, U.S. Department of Energy, Office of the General Counsel, GC-33, 1000 Independence Avenue SW, Washington, DC 20585-0121. Telephone: (202) 586-5827. Email: Eric.Stas@hq.doe.gov.

For further information on how to submit a comment, or review other public comments and the docket, contact the Appliance and Equipment Standards Program staff at (202) 586-6636 or by email: ApplianceStandardsQuestions@ee.doe.gov.

SUPPLEMENTARY INFORMATION: DOE published a Request for Information (RFI) pertaining to the energy conservation standards for unfired hot water storage tanks on August 9, 2019. 84 FR 39220. The RFI initiated a data collection process to consider whether to amend DOE's current uniform national standards for unfired hot water storage tanks, and whether amending the standards for unfired hot water storage tanks would result in significant additional conservation of energy and be technologically feasible and economically justified. DOE requested written comment, data, and information pertaining to these standards by September 23, 2019.

On September 13, 2019, AHRI, an interested party in the matter, requested a sixty-day extension of the public comment period for the RFI that DOE previously published in the Federal Register on August 9, 2019.¹ More specifically, AHRI requested additional time to analyze data, possibly conduct further testing, and prepare comments.

¹ Available at https://www.regulations.gov/document?D=EERE-2017-BT-STD-0021-0002.

After carefully considering this request, DOE has determined that a reopening of the comment period to allow additional time for interested parties to submit comments is appropriate. Therefore, DOE is reopening the comment period and will accept comments received on and before October 30, 2019, to provide interested parties additional time to prepare and submit comments. Accordingly, DOE will consider any comments received by this date, to be timely submitted.

Signed in Washington, DC, on September 23, 2019.
Alexander N. Fitzsimmons,
Acting Deputy Assistant Secretary for Energy Efficiency, Energy Efficiency and Renewable Energy.

[FR Doc. 2019-21174 Filed 9-27-19; 8:45 am]

BILLING CODE 6450-01-P